DEPARTMENT OF ENERGY

Federal Energy Regulatory Commission

[Docket No. EG10-48-000; EG10-51-000; EG10-52-000; EG10-53-000; EG10-54-000; EG10-55-000; EG10-56-000]

Eagle Creek Hydro Power, LLC; Laredo Ridge Wind, LLC; RRI Energy West, Inc.; Goshen Phase II LLC; Solar Partners I, LLC; Solar Partners II, LLC; Solar Partners VIII, LLC; Notice of Effectiveness of Exempt Wholesale Generator Status

October 1, 2010.

Take notice that during the month of September 2010, the status of the above-captioned entities as Exempt Wholesale Generators became effective by operation of the Commission's regulations. 18 CFR 366.7(a).

Kimberly D. Bose,
Secretary.

[FR Doc. 2010-25509 Filed 10-8-10; 8:45 am]

BILLING CODE 6717-01-P